DEPARTMENT OF DEFENSE

Office of the Secretary

Revised Non-Foreign Overseas Per Diem Rates

Correction

In notice document 2016-12469 beginning on page 33481 in the issue of Thursday, May 26, 2016, make the following correction:

1. On pages 33491-33492, the table is corrected to read as set forth below:

BILLING CODE 1505-01-D

[FR Doc. C1-2016-12469 Filed 6-10-16; 8:45 am]

BILLING CODE 1505-01-C